DEPARTMENT OF THE INTERIOR

Bureau of Land Management

[LLUT920-12-L13300000-EN000, UTU-87494]

Notice of the Establishment of the Ten Mile (Utah) Known Potash Leasing Area (KPLA)

AGENCY: Bureau of Land Management, Interior.

ACTION: Notice.

SUMMARY: This action establishes the Ten Mile KPLA so the potash resources on these lands will no longer be available for non-competitive leasing and may instead be available through a competitive leasing process. This action does not commit any on-the-ground resources nor does it commit BLM to any future actions except the denial of the prospecting permit applications that now lie within the boundaries of the Ten Mile KPLA.

DATES: This mineral land classification will become effective upon date of publication in the Federal Register.

ADDRESSES: Inquiries should be sent to the State Director (UT-923), Bureau of Land Management, Utah State Office, 440 West 200 South, Suite 500, Salt Lake City, Utah 84101.

SUPPLEMENTARY INFORMATION: Additional information regarding this KPLA, including maps and the Potash Master Title Plats, are available in the Public Room of the Bureau of Land Management (BLM) Utah State Office and at: http://www.blm.gov/ut/st/en/prog/more/Land_Records.html. The lands included in the Ten Mile KPLA, located in Grand County, Utah, are described as follows:

Salt Lake Base Meridian, Utah

T. 23 S., R. 19 E.,

Sec. 31, NE1/4, SE1/4;

Sec. 32;

T. 24 S., R, 18 E.,

Sec. 1, E1/2;

Sec. 10, E1/2;

Secs. 11 to 14, inclusive;

Sec. 15, E1/2;

Sec. 22, NE1/4;

Secs. 23 to 26; inclusive;

Sec. 33, SE1/4;

Sec. 34, S1/2;

Sec. 35 and 36;

T. 24 S., R. 19 E.,

Sec. 3, W1/2;

Secs. 4 to 9, inclusive;

Sec. 10, W1/2;

Secs. 14 to 23, inclusive;

Sec. 24, S1/2;

Secs. 25 to 36, inclusive;

T. 24 S., R. 20 E.,

Sec. 19, lot 4;

Sec. 28, NW1/4, S1/2;

Secs. 29 to 33, inclusive;

Sec. 34, SW1/4NW1/4, W1/2SW1/4;

T. 25 S., R. 18 E.,

Sec. 1 to 4, inclusive, partly unsurveyed;

Sec. 5, SE1/4, unsurveyed;

Sec. 7, NE1/4, S1/2, unsurveyed;

Secs. 8 to 18, inclusive, partly unsurveyed;

Sec. 19, NE1/4, unsurveyed;

Secs. 20 to 22, inclusive, unsurveyed;

Sec. 23, N1/2, SW1/4, unsurveyed;

Sec. 24, N1/2, unsurveyed;

Sec. 27, NW1/4, unsurveyed;

Sec. 28, N1/2, unsurveyed;

Sec. 29, NE1/4, unsurveyed;

T. 25 S., R. 19 E.,

Secs. 1 to 18, inclusive;

Sec. 19, N1/2;

Sec. 20, N1/2;

Sec. 21, N1/2, SE1/4;

Secs. 22 to 27, inclusive;

Sec. 28, E1/2;

Sec. 33, NE1/4;

Secs. 34 to 36, inclusive;

T. 25 S., R. 20 E.,

Sec. 3, lots 3, 4, and 5, SW1/4SW1/4;

Secs. 4 to 9, inclusive;

Sec. 10, NW1/4NW1/4, S1/2NW1/4, SW1/4, NW1/4SE1/4, S1/2SE1/4;

Sec. 13, S1/2SW1/4, SW1/4SE1/4;

Sec. 14, NW1/4NW1/4, S1/2NW1/4, SW1/4, NW1/4SE1/4, S1/2SE1/4;

Sec.15 to 23, inclusive;

Sec. 24, NE1/4NW1/4, W1/2W1/2;

Secs. 26 to 35, inclusive

T. 26 S., R. 20 E.,

Sec. 2 to 4, inclusive;

Sec. 5, lots 1 to 4, inclusive, and lots 6 to 8, inclusive, S1/2NE1/4, NE1/4SE1/4;

Sec. 9, NE1/4, NE1/4NW1/4;

Sec. 10, N1/2;

Sec. 11, N1/2, N1/2S1/2, SE1/4SE1/4;

Sec. 12;

Sec. 13, N1/2, N1/2S1/2.

The areas described, including both public and nonpublic lands, aggregate 90,240 acres.

Potash is a trade name for potassium-bearing minerals used mainly for fertilizer. Potash and certain other non-energy solid minerals found on Federal lands may be leased for development in either of two ways:

(1) If it is unknown whether an area contains valuable potash deposits, an interested party may obtain a prospecting permit, which grants the party an exclusive right to explore for potash, and, if a valuable deposit is found, that party may qualify for a noncompetitive lease, or

(2) If the BLM has access to information which shows that valuable deposits of potash exist in an area, the area may be designated a KPLA, where prospecting permits may not be issued, and any leasing must be done on a competitive basis.

In 1983, under Secretarial Order 3087, the authority to designate KPLAs was transferred to the BLM. In 1984, the BLM issued four preference right leases for potash resources found in this area.

Recent advances in drilling technology have provided the capability to extract deep potash deposits using dissolution. Based on this new technology, the BLM Assistant Director, in 2009, approved new mineral land classification standards for the Utah portion of the Paradox Basin geologic province, which includes the Ten Mile KPLA. The BLM Utah State Office used the new standards and the analysis of available drilling information to determine that the Ten Mile KPLA should be established to include deep solution-mineable potash deposits. Competitive leasing within the KPLA will be initiated based on expressions of interest. Any competitive leases issued will be subject to the oil and gas leasing stipulations contained in the 2008 Moab Resource Management Plan (Moab RMP, Appendix A), any amendments to the leasing stipulations that result from the Moab Master Leasing Plan process, which was initiated on March 5, 2012. Competitive potash leases will also be subject to additional conditions of approval developed as part of site-specific National Environmental Policy Act of 1969 (NEPA) compliance.

In accordance with Departmental Manual (DM) 516, Chapter 11.9 J(12), the classification of a KPLA is an action that is categorically excluded from NEPA analysis, provided that there are no “extraordinary circumstances” as described in 43 CFR 46.215. The proposed Ten Mile KPLA was reviewed and was determined to have no “extraordinary circumstances” as stated in DOI-BLM-UT-9230-2012-0001-CX (number to be assigned as of date of publication). Further NEPA review will be done for site specific proposals within the KPLA.

This notice will be published in the Moab Times Independent for 2 consecutive weeks after publication in the Federal Register.

Pursuant to the authority in the Act of March 3, 1879, (43 U.S.C. 31), as supplemented by Reorganization Plan No. 3 of 1950 (43 U.S.C. 1451, note), the Departmental Manual 235 DM 1.1L, and the Mineral Leasing Act of 1920, as amended (30 U.S.C. 181 et seq.), the Ten Mile KPLA includes the lands listed above effective May 4, 2012.

Authority: Act of March 3, 1879, (43 U.S.C. 31), as supplemented by Reorganization Plan No. 3 of 1950 (43 U.S.C. 1451, note) and 235 Interior Department Manual 1.1L.; Mineral Leasing Act of 1920, as amended (30 U.S.C. 181 et seq.).

Shelley J. Smith,
Acting Associate State Director.

[FR Doc. 2012-10768 Filed 5-3-12; 8:45 am]

BILLING CODE 4310-DQ-P